DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Exxon Mobil Corporation, Geological & Geophysical Exploration for Mineral Resources for Veritas Geophysical Company SEA T05-01 | Located in the western Gulf of Mexico east of Galveston, Texas | 1/19/2005
Pioneer Natural Resources USA, Inc., Structure Removal SEA ES/SR 05-001 | Brazos, Block A7, Lease OCS-G 04558, located 35 miles from the nearest Texas shoreline | 1/26/2005
Pioneer Natural Resources USA, Inc., Structure Removal SEA ES/SR 05-002 | Brazos, Block A39, Lease OCS-G 04559, located 38 miles from the nearest Texas shoreline | 1/27/2005
Shell Offshore, Inc., Initial Exploration Plan SEA N-8250 | DeSoto Canyon, Blocks 486 and 487, OCS-G 25855 and OCS-G 25856, located 86 miles from the nearest Louisiana shoreline | 1/31/2005
Naval Research Laboratory, Geological & Geophysical Exploration Plan for Mineral Resources SEA L05-02 | Located in the central Gulf of Mexico south of Gulfport, Mississippi | 2/3/2005
Fugro McClelland Marine Geosciences, Inc., Geological & Geophysical Exploration Plan for Mineral Resources for Chevron Texaco SEA T05-03 | Located in the central Gulf of Mexico south of Mobile, Alabama, and east of Galveston, Texas | 2/4/2005
Fugro McClelland Marine Geosciences, Inc., Geological & Geophysical Exploration Plan for Mineral Resources for Chevron Texaco SEA T05-04 | Located in the central Gulf of Mexico south of Mobile, Alabama, and east of Galveston, Texas | 2/4/2005
Stone Energy Corporation, Structure Removal SEA ES/SR 93-043A | East Cameron, Block 64, Lease OCS 00089, located 24 miles south of the nearest Louisiana shoreline | 2/10/2005
Apache Corporation, Structure Removal SEA ES/SR 05-003 | Ship Shoal, Block 216, Lease OCS-G 01524, located 38 miles south of the nearest Louisiana shoreline | 2/10/2005
C & C Technologies, Inc., Geological & Geophysical Exploration Plan for BHP Billiton (Americas), Inc. SEA L05-007 | Located in the central Gulf of Mexico south of Fourchon, Louisiana | 2/22/2005
Stone Energy Corporation, Structure Removal SEA ES/SR 05-004 | Matagorda Island, Block 670, Lease OCS-G 21308, located 22 miles southeast from the nearest Calhoun County, Texas shoreline | 2/25/2005
Apache Corporation, Structure Removal SEA ES/SR 05-005 | Brazos, Block 494, Lease OCS-G 06071, located 17 miles from the nearest Texas shoreline | 2/28/2005
Chevron U.S.A., Inc., Structure Removal SEA ES/SR 05-006 | Viosca Knoll, Block 294, OCS-G 08778, located 38 miles from the nearest Louisiana shoreline | 3/1/2005
C & C Technologies, Inc., Geological & Geophysical Exploration Plan for BP America, Inc. SEA L05-08 | Located in the central Gulf of Mexico south of Fourchon, Louisiana | 3/3/2005
Newfield Exploration Company, Structure Removal SEA ES/SR 05-007 | West Cameron, Block 409, Lease OCS-G 03282, located 65 miles from the nearest Louisiana shoreline | 3/3/2005
ChevronTexaco Energy Technology Co, Geological & Geophysical Exploration for Mineral Resources or Scientific Research SEA L05-3, L05-4, L05-5 | Keathley Canyon, Block 151 (unleased), located 190 miles from the nearest Louisiana shoreline; and Atwater, Valley, Blocks 13 & 14, OCS-G 24203 & 25212, located 67 miles from the nearest Louisiana shoreline | 3/8/2005
Mariner Energy, Inc., Structure Removal Activity SEA ES/SR 05-012 | Brazos, Block 364, Lease OCS-G 07214, located 12 miles from the nearest Texas shoreline | 3/9/2005
BP Exploration & Production, Inc., Geological & Geophysical Exploration Plan for Veritas Geophysical Corporation SEA L05-09 | Located in the central Gulf of Mexico south of Fourchon, Louisiana | 3/9/2005
Union Oil Company of California, Structure Removal Activity SEA ES/SR 05-009, 05-010, 05-011 | South Marsh, Block 6, Lease OCS-G 01177, located 35 miles from the nearest Louisiana shoreline | 3/10/2005
Maritech Resources, Inc., Structure Removal SEA ES/SR 05-032 | East Cameron, Block 42, Lease OCS-G 02857, located 10 miles from the nearest Louisiana shoreline | 3/14/2005
Apache Corporation, Structure Removal SEA ES/SR 05-024 | Brazos, Block 494, Lease OCS-G 06071, located 20 miles from the nearest Texas shoreline | 3/15/2005
GOM Shelf, LLC, Structure Removal SEA ES/SR 05-025, 05-026 | Matagorda Island, Blocks 620 & 638, Leases OCS-G 03087 & 06044, located 22 miles from the nearest Texas shoreline | 3/16/2005
GOM Shelf, LLC, Structure Removal SEA ES/SR 05-027 & 05-028 | Matagorda Island, Blocks 654 & 669, Leases OCS-G 04546 & 04065, located 20 miles from the nearest Texas shoreline | 3/16/2005
Tri-Union Development Corporation, Structure Removals SEA ES/SR 05-018, 05-019, 05-020, 05-021, 05-022, 05-023 | High Island, High Island (East Addition), High Island (East Addition South Extension) & Galveston; Blocks A126, A127, A129, A237, 261 & 211; Leases OCS-G RUE G 22046, OCS G 08562, OCS G 07306, RUE G 22047, RUE G 22045, OCS G 06097, located15 to 69 miles from the nearest Galveston shoreline | 3/17/2005
Apache Corporation, Structure Removal SEA ES/SR 05-029, 05-030, 05-031 | West Cameron, West Cameron (West Addition), Eugene Island, Blocks 144, 364 & 152, located 23 to 65 miles from the nearest Louisiana shoreline | 3/17/2005
W & T Offshore, Inc., Structure Removal SEA ES/SR 05-042 | Ewing Bank, Block 482, Lease OCS-G 19913, located 47 miles from the nearest Louisiana shoreline | 3/23/2005
Devon Louisiana Corporation, Structure Removal SEA ES/SR 05-008 | High Island (East Addition South Extension), Block A329, Lease OCS-G 15815, located 105 miles from the nearest Jefferson County, Texas shoreline | 3/23/2005
W & T Offshore, Inc., Structure Removal SEA 05-040, 05-041 | West Cameron (South), Block 620, Lease OCS-G 02234, located 110 miles from the nearest Louisiana shoreline | 3/23/2005
GOM Shelf, LLC, Structure Removal SEA ES/SR 05-039 | Matagorda Island, Block 620, Lease OCSG 03087, located 20 miles from the nearest Texas shoreline | 3/24/2005
Stone Energy Corporation, Structure Removal SEA ES/SR 05-035 | East Cameron, Block 34, Lease OCS-G 17834, located 5 miles from the nearest Louisiana shoreline | 3/29/2005
Murphy Exploration & Production Company, U.S.A., Structure Removal SEA ES/SR 05-033, 05-034 | Eugene Island (South), Blocks 322 & 323, Leases OCS-G 02113 & 15261, located 65 miles from the nearest Louisiana shoreline | 3/29/2005
W & T Offshore, Inc., Structure Removal SEA ES/SR 05-043 | South Pass (East), Block 72, Lease OCS-G 12079, located 10 miles from the nearest Louisiana shoreline | 3/29/2005
W & T Offshore, Inc., Structure Removal SEA ES/SR 05-046 | West Cameron (South), Block 554, Lease OCS-G 07629, located 95 miles from the nearest Louisiana shoreline | 3/29/2005
Virgin Offshore U.S.A., Inc., Structure Removal SEA ES/SR 05-044 | West Cameron, Block 151, Lease OCSG 17764, located 21 miles from the nearest Louisiana shoreline | 3/29/2005
Shell Offshore, Inc., Initial Exploration Plan SEA N-8315 | DeSoto Canyon, Block 268, Lease OCS-G 23501, located 81 miles from the nearest Louisiana shoreline, 104 miles from the nearest Alabama shoreline, 110 miles from the nearest Mississippi shoreline, and 114 miles from the nearest Florida shoreline | 3/31/2005
El Paso Production Oil & Gas Company, Structure Removal SEA ES/SR 05-049, 05-050 | High Island, Blocks A310 & A316, Leases OCS-G 03375 & 21358, located 100 miles from the nearest Texas shoreline | 3/31/2005
Chevron U.S.A., Inc., Structure Removal SEA ES/SR 05-036 | West Cameron, Block 42, Lease OCS-G 22500, located 5 miles from the nearest Louisiana shoreline | 3/31/2005

Persons interested in reviewing environmental documents for the proposals listed above or obtaining information about SEAs and FONSIs prepared for activities on the Gulf of Mexico OCS are encouraged to contact MMS at the address or telephone listed in the FOR FURTHER INFORMATION CONTACT section.

Dated: April 18, 2005.
Chris C. Oynes,
Regional Director, Gulf of Mexico OCS Region.

[FR Doc. 05-10016 Filed 5-18-05; 8:45 am]

BILLING CODE 4310-MR-P